DEPARTMENT OF TRANSPORTATION

National Highway Traffic Safety Administration

[Docket No. NHTSA 2001-10773]

Reports, Forms and Record Keeping Requirements Agency Information Collection Activity Under OMB Review

AGENCY: National Highway Traffic Safety Administration, DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on August 9, 2002 [Vol. 67 FR 51925].

DATES: Comments must be submitted on or before January 27, 2003.

FOR FURTHER INFORMATION CONTACT: George Person at the National Highway Traffic Safety Administration, Office of Defects Investigation, 202-366-5210, 400 Seventh Street, SW., Room 5326, Washington, DC 20590.

SUPPLEMENTARY INFORMATION: Agency: National Highway Traffic Safety Administration.

Title: Reporting of Information About Foreign Safety Recalls and Campaigns Related to Potential Defects.

OMB Number: 2127-NEW.

Type of Request: New Collection.

Abstract: On October 11, 2001, NHTSA published a Final Rule (67 FR 63295) implementing section 3(a) of the Transportation Recall Enhancement, Accountability, and Documentation (TREAD) Act, Pub. L. 106-414, which requires a manufacturer of motor vehicles or motor vehicle equipment to report to NHTSA whenever it decides to conduct a safety recall or other safety campaign in a foreign country, or has been directed to do so by a foreign government, covering vehicles or equipment that are identical or substantially similar to vehicles or equipment sold or offered for sale in the United States. The obligation to report this information was effective on the day that the TREAD Act was signed into law, November 1, 2000. Since that date, NHTSA has, in fact, received some notifications of foreign safety campaigns being conducted.

Affected Public: The TREAD Act requires all manufacturers of motor vehicles and motor vehicle equipment who sell vehicles or equipment in the United States, and who also sell or plan to sell vehicles outside the United States, to comply with these reporting requirements. We estimate that there are a total of 23,500 manufacturers who sell vehicles or equipment in the United States. Of these, we estimate that fewer than 70 vehicle manufacturers will need to comply with the reporting requirements.

Estimated Total Annual Burden: The annual burden is estimated to be 2,060 hours.

ADDRESSES: Send comments, within 30 days, to the Office of Information and Regulatory Affairs, Office of Management and Budget, 725 17th Street, NW., Washington, DC 20503, Attention NHTSA Desk Officer.

Comments are invited on: Whether the proposed collection of information is necessary for the proper performance of the functions of the Agency, including whether the information will have practical utility; the accuracy of the Agency's estimate of the burden of the proposed information collection; ways to enhance the quality, utility and clarity of the information to be collected; and ways to minimize the burden of the collection of information on respondents, including the use of automated collection techniques or other forms of information technology.

A comment to OMB is most effective if OMB receives it within 30 days of publication.

Kenneth N. Weinstein,
Associate Administrator for Enforcement.

[FR Doc. 02-32624 Filed 12-26-02; 8:45 am]

BILLING CODE 4910-59-P